DEPARTMENT OF THE TREASURY

Multiemployer Pension Plan Application To Reduce Benefits

AGENCY: Department of the Treasury.

ACTION: Notice of availability; Request for comments.

SUMMARY: On September 28, 2016, the Department published a notice of availability and request for comments regarding an application to Treasury to reduce benefits under the New York State Teamsters Conference Pension and Retirement Fund in accordance with the Multiemployer Pension Reform Act of 2014 (MPRA). The purpose of this notice is to reopen the comment period to provide more time for interested parties to provide comments.

DATES: Comments must be received on or before December 21, 2016.

ADDRESSES: You may submit comments electronically through the Federal eRulemaking Portal at http://www.regulations.gov, in accordance with the instructions on that site. Electronic submissions through www.regulations.gov are encouraged.

Comments may also be mailed to the Department of the Treasury, MPRA Office, 1500 Pennsylvania Avenue NW., Room 1224, Washington, DC 20220. Attn: Eric Berger. Comments sent via facsimile and email will not be accepted.

Additional Instructions. All comments received, including attachments and other supporting materials, will be made available to the public. Do not include any personally identifiable information (such as Social Security number, name, address, or other contact information) or any other information in your comment or supporting materials that you do not want publicly disclosed. Treasury will make comments available for public inspection and copying on www.regulations.gov or upon request. Comments posted on the Internet can be retrieved by most Internet search engines.

FOR FURTHER INFORMATION CONTACT: For information regarding the application from the New York State Teamsters Conference Pension and Retirement Fund, please contact Treasury at (202) 622-1534 (not a toll-free number).

SUPPLEMENTARY INFORMATION: The Multiemployer Pension Reform Act of 2014 (MPRA) amended the Internal Revenue Code to permit a multiemployer plan that is projected to have insufficient funds to reduce pension benefits payable to participants and beneficiaries if certain conditions are satisfied. In order to reduce benefits, the plan sponsor is required to submit an application to the Secretary of the Treasury, which Treasury, in consultation with the Pension Benefit Guaranty Corporation (PBGC) and the Department of Labor, is required to approve or deny.

On August 31, 2016, the Board of Trustees of the New York State Teamsters Conference Pension and Retirement Fund (NYS Teamsters Pension Fund) submitted an application for approval to reduce benefits under the plan. As required by MPRA, that application has been published on Treasury's Web site at https://auth.treasury.gov/services/Pages/Plan-Applications.aspx. On September 28, 2016, Treasury published a notice in the Federal Register (81 FR 66751-2), in consultation with PBGC and the Department of Labor, to solicit public comments on all aspects of the NYS Teamsters Pension Fund application. The notice provided that comments must be received by November 14, 2016. On November 1, 2016, the Retiree Representative (appointed by the NYS Teamsters Pension Fund in connection with its application to reduce benefits) requested a thirty-day extension of the comment period.

This notice announces the reopening of the comment period in order to give additional time for interested parties to provide comments. Comments are requested from interested parties, including contributing employers, employee organizations, and participants and beneficiaries of the NYS Teamsters Pension Fund. Consideration will be given to any comments that are received by Treasury on or before December 21, 2016. Treasury is publishing this notice in the Federal Register, in consultation with the PBGC and the Department of Labor, to solicit public comments on all aspects of the NYS Teamsters Pension Fund application.

Comments are requested from interested parties, including participants and beneficiaries, employee organizations, and contributing employers of the NYS Teamsters Pension Fund. Consideration will be given to any comments that are timely received by Treasury.

Dated: November 15, 2016.
David R. Pearl,
Executive Secretary, Department of the Treasury.

[FR Doc. 2016-27938 Filed 11-18-16; 8:45 am]

BILLING CODE 4810-25-P